DEPARTMENT OF THE INTERIOR

National Park Service

Going-to-the-Sun Road Rehabilitation Plan/Final Environmental Impact Statement, Glacier National Park, a Unit of Waterton-Glacier International Peace Park, Montana

AGENCY: National Park Service, Department of the Interior.

ACTION: Notice of availability of a record of decision on the final environmental impact statement for the Going-to-the-Sun Road Rehabilitation Plan, Glacier National Park.

SUMMARY: Pursuant to § 102(2) (C) of the National Environmental Policy Act of 1969, Pub. L. 91-190, 83 Stat. 852, 853, codified as amended at 42 U.S.C. 4332 (2) (C), the National Park Service announces the availability of the Record of Decision for the Going-to-the-Sun Road Rehabilitation Plan, Glacier National Park, Montana. On September 15, 2003, the Acting Director, Intermountain Region approved the Record of Decision for the project. As soon as practicable, the National Park Service will begin to implement the Preferred Alternative contained in the FEIS issued on June 6, 2003, and modified as described in the Record of Decision. The following course of action will occur under the preferred alternative. Rehabilitation of the Road will be completed over 7 to 8 years, if required funding is made available and unforeseen delays do not occur. The cost to implement proposed Road rehabilitation and visitor use improvements and mitigation is estimated to range from $140 million to $170 million. This alternative accomplishes road repairs while maintaining visitor use and access to the GTSR similar to current conditions.

Rehabilitation will include improvements and upgrades to visitor use facilities located adjacent to the Road. Visitor use improvements include: improved vehicle parking and pedestrian circulation at existing pullouts; rehabilitation of existing toilets and the addition of new toilets; construction of five new short turnouts for slow-moving vehicles; construction of a few new short roadside trails and rehabilitation of social trails; designation of transit stops at popular locations along the Road; and improved information, orientation and interpretive information for visitors. Selective vegetation trimming and clearing to restore scenic vistas at specific locations along the road will occur in accordance with an approved Vista Management Plan that is currently being developed.

To ensure that the Road remains in excellent condition following this rehabilitation effort, the Park is seeking increased funding for operations and maintenance of the Road. In the past, the annual operating budget for Road maintenance has not been adequate to keep up with necessary Road repairs. Sufficient annual funding is required to protect the investment in Road rehabilitation and visitor use improvements.

Mitigation as described in the Final EIS and summarized under Measures to Minimize Environmental Harm is also incorporated into the preferred alternative and NPS decision. NPS biologists and other park staff will work with FHWA during project development to incorporate the mitigation into the construction contract documents.

One concern raised by several members of the public on the Final EIS was the planned restrictions in traffic during the shoulder seasons prior to July 4 and after mid-September. The concern expressed was that delaying the opening of the road across Logan Pass until July 4th would be perceived as a Road closure and could result in more adverse affects on tourist visits and local businesses.

In response to these comments, the NPS has decided that shoulder season work will occur prior to mid-June and after mid-September. This is a change from the Final EIS. The specific date in June for opening the road across Logan Pass will be determined by the Superintendent. It will be dependent on the construction underway, road conditions, safety, and the weather. Prior to mid-June and after mid-September, when visitation is typically lower, traffic will be suspended within discrete work zones, while Logan Pass and the remainder of the Road remain open, dependent on weather conditions, (at least 40 miles; 65 kilometers). Between mid-June and mid-September, a maximum cumulative traffic delay of 30 minutes over the length of the Road will occur during peak visitor hours. Longer delays will be used during the early morning, evening, and at night. Glacier National Park will remain open throughout the year regardless of the various travel restrictions required during rehabilitation. This course of action and three other alternatives were analyzed in the Draft and Final Environmental Impact Statements. The full range of foreseeable environmental consequences was assessed, and appropriate mitigating measures were identified.

The Record of Decision includes a statement of the decision made, synopses of other alternatives considered, the basis for the decision, a description of the environmentally preferred alternative, a finding on impairment of park resources and values, a listing of measures to minimize environmental harm, and an overview of public involvement in the decision-making process.

FOR FURTHER INFORMATION CONTACT: Mary Riddle, Glacier National Park, West Glacier, MT 59936, 406-888-7898, mary_riddle@nps.gov

SUPPLEMENTARY INFORMATION: Copies of the Record of Decision may be obtained from the contact listed above or online at http://www.nps.gov/glac/plans.htm

Dated: September 23, 2003.
Michael D. Snyder,
Acting Regional Director, Intermountain Region, National Park Service.

[FR Doc. 04-412 Filed 1-8-04; 8:45 am]

BILLING CODE 4312-HY-P